DEPARTMENT OF TRANSPORTATION

Federal Aviation Administration

[Docket No. FAA-2011-0183]

Access to Aircraft Situation Display to Industry (ASDI) and National Airspace System Status Information (NASSI) Data

AGENCY: Federal Aviation Administration (FAA), DOT.

ACTION: Notice of proposed process for limiting aircraft data displayed via ASDI; request for comments.

SUMMARY: On December 16, 2011, the FAA published a notice of an interim policy, instructing aircraft owners and operators on how they can limit the FAA's dissemination of their aircraft data via the FAA's ASDI program. The notice indicated that the FAA would later propose specific procedures by which aircraft owners and operators can in the future express their preference on the FAA's release of their aircraft data to the public via ASDI. This document is the FAA's proposal and the FAA's invitation to the public to comment on any aspect of it. Until the FAA publishes a document that sets forth the FAA's final decision on the ASDI blocking process, the FAA will continue to operate under the interim policy that the FAA described in the notice published in December 2011.

DATES: Any written information that responds to the FAA's proposed procedures must be submitted by June 8, 2012.

ADDRESSES: You may submit written information, identified by docket number FAA-2011-0183, by any of the following methods:

• Federal eRulemaking Portal: Go to http://regulations.gov and follow the online instructions for sending your comments electronically.

• Mail: Send comments by mail to Docket Operations, U.S. Department of Transportation, M-30, Room W12-140, 1200 New Jersey Avenue SE., Washington, DC 20590-0001. Persons wishing to receive confirmation of receipt of their written submission should include a self-addressed stamped postcard.

• Hand Delivery: Deliver comments to Docket Operations in Room W12-140 on the ground floor of the West Building at 1200 New Jersey Avenue SE., Washington, DC, between 9:00 a.m. and 5:00 p.m., Monday through Friday, except Federal holidays.

• Facsimile: Fax comments to the docket operations personnel at 202-493-2251.

Privacy: We will post all comments that we receive, without change, at http://www.regulations.gov, including any personal information that you provide. Using the search function of the docket Web site, anyone can find and read the electronic form of all comments in any of our dockets, including the name of the individual sending the comment or signing the comment on behalf of an association, business, labor union, or other entity or organization. You may review the DOT's complete Privacy Act Statement in the Federal Register at 65 FR 19477-78 (April 11, 2000), or you may find it at http://docketsinfo.dot.gov.

Reviewing the docket: To read background documents or comments received, go to http://www.regulations.gov at any time and follow the online instructions for accessing the docket, or go to Docket Operations in Room W12-140 on the ground floor of the West Building at 1200 New Jersey Avenue SE., Washington, DC, between 9:00 a.m. and 5:00 p.m., Monday through Friday, except Federal holidays.

FOR FURTHER INFORMATION CONTACT: You may direct any questions on adding aircraft to and removing aircraft from the ASDI block list to the FAA's ASDI program staff by telephone at (540) 422-4649 or by electronic mail at ASDIBlock@faa.gov.

SUPPLEMENTARY INFORMATION: On November 18, 2011, the President signed into law H.R. 2112, the “Consolidated and Further Continuing Appropriations Act, 2012,” which provides the U.S. Department of Transportation's appropriation for the balance of fiscal year 2012. Section 119A of that statute provides that:

[n]otwithstanding any other provision of law, none of the funds made available under this Act or any prior Act may be used to implement or to continue to implement any limitation on the ability of any owner or operator of a private aircraft to obtain, upon a request to the Administrator of the [FAA], a blocking of that owner's or operator's aircraft registration number from any display of the [FAA's ASDI] data that is made available to the public, except data made available to a Government agency, for the noncommercial flights of that owner or operator.

Public Law 112-55, § 119A, 125 Stat. 552, 649.

In light of this appropriation language, the FAA withdrew a prior policy that it published on June 3, 2011, which required owners or operators to submit a Certified Security Concern in order to have their aircraft blocked from the public's view on displays of ASDI information. In connection with its withdrawal of the June 3 policy, the FAA published interim procedures under which aircraft owners and operators can request that the FAA block their aircraft from release to the public via the FAA's ASDI data feed. 78 FR 78,328 (Dec. 16, 2011). At that time, the FAA noted that it would propose more detailed procedures for the ASDI blocking program and solicit public comment on the proposal. This notice is the FAA's proposal, and the FAA invites the public to comment on any aspect of it in any of the manners described in the ADDRESSES section of this notice. After the FAA publishes its final procedures with respect to blocking aircraft data from the public ASDI data feed, the FAA may amend its memoranda of agreement with the subscribers who receive the information to clarify the subscriber responsibilities.

Substance of Aircraft Owner or Operator Requests

Consistent with Congress' recent appropriations directive, the FAA proposes to continue to honor all aircraft owner or operator requests that the FAA block their aircraft from appearing in the FAA's public ASDI data feed. Aircraft owners and operators can submit requests on their own behalf or may do so through their legally authorized agent. The FAA does not view associations to be agents on behalf of their members for this purpose.

To assist the FAA in accurately and efficiently processing the number of requests that the FAA expects, the FAA intends to ask that all requests for ASDI blocking include specific information. The receipt of this information could influence whether the FAA can add or delete aircraft from the ASDI block list in a timely way. In particular, the FAA expects that its program staff will need:

• The name of the requestor;

• The registration number(s) of the aircraft to be blocked or unblocked;

• A certification that the requestor is the owner or operator of the specified aircraft;

• A telephone number and electronic mail address to which the FAA can direct questions about the request; and

• For a request to block one or more aircraft, a statement indicating whether the requestor desires ASDI blocking at the FAA source or at the industry level.

The distinction between blocking ASDI data at the FAA source and blocking it at the industry level warrants clarification. Blocking ASDI information at the FAA source results in the FAA filtering the blocked data before release to the public, although the FAA supplies unfiltered data to other Government agencies. If the owner or operator selects this level of blocking, however, the aircraft owner or operator who wants to track the aircraft or to grant that ability to anyone else will be unable to do so. Blocking ASDI information at the industry level allows owners or operators to contract with an ASDI data subscriber to reveal their aircraft whereabouts to those with whom the owner or operator wishes to share that information. Under this procedure, owners and operators should be aware that the FAA will provide unfiltered information to all subscribers who receive ASDI data directly from the FAA (direct subscribers), with the instruction that those subscribers are to block the designated aircraft unless the subscriber reaches a contrary agreement with a blocked aircraft's owner or operator. Furthermore, the direct subscribers may contract to share the FAA data with an additional level of subscribers (indirect subscribers). All subscriber use of the information is limited in that they must agree to shield the blocked aircraft data from further release, unless the subscriber enters into an agreement with the owner or operator that allows for the information's further use. If a requestor fails to specify whether the request is for blocking at the FAA source or at the industry level, the FAA will construe the request as seeking to block the information at the FAA source.

FAA Implementation of Requests

The FAA intends to continue its current practice of implementing ASDI block list revisions on the first Thursday of each month. As a practical matter, requests that the FAA receives on or before the 15th of the preceding month are likely to be processed in time to take effect the following month. However, it is possible that the volume of requests in a given month, a requestor's timeliness, or the completeness and accuracy of the information that the FAA receives could preclude the FAA from processing some requests in time for them to take effect in the month following their submission. In that event, the FAA will process all requests in the order in which the FAA receives them to the extent that it is possible.

Process for Aircraft That Are Currently Blocked

A number of aircraft are currently on the FAA's ASDI block lists, some of which are based on a certified security concern submitted after June 3, 2011, and some of which are based on requests under the FAA's interim policy of accepting all aircraft owner or operator requests to block their aircraft data from public display of ASDI and NASSI information. The FAA has tentatively determined that it is not necessary to require the owners or operators of these aircraft to submit their initial requests again, unless they wish to change the status of their aircraft or the level at which an aircraft is blocked.

Block Request Addresses

Because the nature of the FAA's ASDI blocking program is changing, the FAA proposes to change the principal addresses where aircraft owners and operators can submit any information that the program requires. The FAA will still receive and accept information submitted at the previous addresses for this program. However, the FAA has established a new primary electronic mailbox for all aircraft blocking and unblocking requests and inquiries at ASDIBlock@faa.gov. The FAA also will accept information submitted by regular mail at: FAA ASDI Blocking Request; ATO System Operations Services, AJR-0; Wilbur Wright Building, Room 3E1500; 600 Independence Avenue SW., Washington, DC 20597.

Paperwork Reduction Act

This proposal contains the following new information collection requirements. As required by the Paperwork Reduction Act of 1995 (44 U.S.C. section 3507(d)), the FAA has submitted the information requirements associated with this proposal to the Office of Management and Budget (OMB) for its review.

Title: ASDI Block Requests.

Summary: The FAA makes air traffic flow management data available to aviation and other industries, consisting of near real-time position and other relevant flight data for civil aircraft receiving radar services within the National Air Space. Through a Policy Notice published in the Federal Register on June 3, 2011, the FAA undertook to formalize a process through which aircraft owners and operators could ask the FAA to block their aircraft identification information from appearing in the FAA's ASDI data feed. Section 119A of H.R. 2112, the “Consolidated and Further Continuing Appropriations Act, 2012” and the FAA's resulting policy adjustments expanded the aircraft blocking program to allow any interested aircraft owner or operator to simply opt out of the public ASDI data feed by submitting a written request to the FAA's ASDI Program Office. The FAA's implementation of the ASDI blocking program necessitates a paperwork burden related to the collection and processing of those block requests.

Use of: The collected information will be used by the National Air Space Data Release Office to block aircraft flight data as requested by any interested aircraft owner or operator.

Respondents (including number of): The FAA estimates that approximately 6,000 owners and operators will request ASDI blocks.

Frequency: The information collection would occur one time per requesting owner/operator.

Annual Burden Estimate: The burden estimate is approximately 500 hours.

The agency is soliciting comments related to: (1) Evaluating whether the proposed information requirement is necessary for the proper performance of the functions of the agency, including whether the information will have practical utility; (2) evaluating the accuracy of the agency's estimate of the burden; (3) enhancing the quality, utility, and clarity of the information to be collected; and (4) minimizing the burden of collecting information on those who are to respond, including by using appropriate automated, electronic, mechanical, or other technological collection techniques or other forms of information technology.

Individuals and organizations may send comments on the information collection requirement to the address listed in the ADDRESS section in this notice. Comments also should be submitted to the Office of Management and Budget, Office of Information and Regulatory Affairs, Attention: Desk Officer for FAA, New Executive Building, Room 10202, 725 17th Street NW., Washington, DC 20053.

According to the 1995 amendments to the Paperwork Reduction Act (5 CFR section 1320.8(b)(2)(vi)), an agency may not collect or sponsor the collection of information, nor may it impose an information collection requirement unless it displays a currently valid OMB control number. The OMB control number for this information collection will be published in the Federal Register, after OMB approves it.

Issued in Washington, DC, on May 4, 2012.
Nancy B. Kalinowski,
Vice President, ATO System Operations Service.

[FR Doc. 2012-11251 Filed 5-8-12; 8:45 am]

BILLING CODE 4910-13-P